DEPARTMENT OF COMMERCE

National Oceanic and Atmospheric Administration

[RTID 0648-XD901]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Ecosystem Workgroup (EWG) will hold an online meeting, which is open to the public.

DATES: The online meeting will be held Friday, May 24, 2024, from 10 a.m. to 2 p.m. or until business for the day is completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: During this meeting the EWG will (1) review progress on Fishery Ecosystem Plan Initiative 4 and (2) discuss the contents of reports on agenda items for the June 2024 Pacific Council meeting.

In March 2024, the Pacific Council provided guidance on the further development of risk assessment methodologies, as part of Initiative 4, to bring climate and ecosystem information into harvest specification processes. Proposed methodologies will be reviewed by the Scientific and Statistical Committee Ecosystem-Based Management Subcommittee on August 5, 2024, and considered by the Pacific Council at its September 2024 meeting.

At its June meeting, the Pacific Council will discuss and provide guidance on potential changes to Council operations. The EWG may provide recommendations on recommended changes and other agenda topics, as appropriate. Other matters related to the work of the EWG may also be discussed.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: May 3, 2024.
Rey Israel Marquez,
Acting Deputy Director, Office of Sustainable Fisheries, National Marine Fisheries Service.

[FR Doc. 2024-10056 Filed 5-7-24; 8:45 am]

BILLING CODE 3510-22-P